DEPARTMENT OF HEALTH AND HUMAN SERVICES

National Institutes of Health

National Cancer Institute; Cancellation of Meeting

Notice is hereby given of the cancellation of the National Cancer Institute Director's Consumer Liaison Group, September 5, 2002, 2 p.m. to September 5, 2002, 4 p.m., 6116 Executive Blvd, Rockville, MD, 20852 which was published in the Federal Register on August 16, 2002, 67FR535392.

The meeting is cancelled due to scheduling conflicts.

Dated: August 22, 2002.
LaVerne Y. Stringfield,
Director, Office of Federal Advisory Committee Policy.

[FR Doc. 02-22061 Filed 8-28-02; 8:45 am]

BILLING CODE 4140-01-M